FEDERAL COMMUNICATIONS COMMISSION

47 CFR Part 20

[WT Docket No. 05-265; FCC 11-52]

Reexamination of Roaming Obligations of Commercial Mobile Radio Service Providers and Other Providers of Mobile Data Services; Public Information Collection Approved by Office of Management and Budget

AGENCY: Federal Communications Commission.

ACTION: Final rule; announcement of effective date.

SUMMARY: In this document, the Federal Communications Commission (FCC) announces that it has received Office of Management and Budget (OMB) approval for public information collection 3060-0411, which is associated with the new complaint mechanism for resolving data roaming disputes with commercial mobile data service providers.

DATES: 47 CFR 20.12(e)(2), published May 6, 2011 at 76 FR 26199, is effective October 13, 2011.

FOR FURTHER INFORMATION CONTACT: Contact Judith B. Herman, Federal Communications Commission, at (202) 418-0214 or via the Internet at Judith-B.Herman@fcc.gov.

SUPPLEMENTARY INFORMATION: On September 7, 2011, the Commission received approval from the Office of Management and Budget for a revision to public information collection 3060-0411, which relates to the filing of complaints with the Federal Communications Commission.

The revision was necessitated by the adoption of a new data roaming rule requiring commercial mobile data service providers to offer data roaming arrangements to other such providers.¹ The Commission also provided a complaint process by adopting 47 CFR 20.12(e)(2). Specifically, a party alleging a violation of 47 CFR 20.12(e) may file a formal or informal complaint pursuant to the procedures in 47 CFR 1.716-1.718, 1.720, 1.721, and 1.723-1.735. It is this rule, 47 CFR 20.12(e)(2), that is now effective.

¹ See Reexamination of Roaming Obligations of Commercial Mobile Radio Service Providers and Other Providers of Mobile Data Services, WT Docket No. 05-265, FCC 11-52, Second Report and Order, 26 FCC Rcd 5411, 76 FR 26199 (2011); 47 CFR 20.12(e).

Rule: 47 CFR 20.12(e)(2).

Effective date: 10/13/2011.

OMB Control No.: 3060-0411.

OMB Approval Date: 09/07/2011.

Collection 3060-0411 Expiration Date: 09/30/2014.

Title: Procedures for Formal Complaints.

Form No.: FCC Form 485.

Estimated Annual Burden: 20 respondents; 301 responses; 1,349 total annual hours.

Needs and Uses: On April 7, 2011, the Commission adopted, for data roaming, a complaint procedure using most of the procedural processes already in place for resolving formal complaints against common carriers. Specifically, a party alleging a violation of 47 CFR 20.12(e) may file a formal or informal complaint pursuant to the procedures in 47 CFR 1.716-1.718, 1.720, 1.721, and 1.723-1.735. The Commission finds that it is in the public interest to ensure a consistent Commission process for resolving both voice and data roaming complaints. Moreover, some roaming disputes will involve both data and voice and are likely to have factual issues common to both types of roaming. This approach allows a party to bring a single proceeding to address such a dispute, rather than having to bifurcate the matter and initiate two separate proceedings under two different sets of procedures. This, in turn, will be more efficient for the parties involved, as well as for the Commission, and should result in faster resolution of such disputes.

This collection of information includes the process for submitting a formal complaint. The Commission uses this information to determine the sufficiency of complaints and to resolve the merits of disputes between the parties. Orders issued by the Commission in formal complaint proceedings are based upon evidence and argument produced by the parties in accordance with the Formal Complaint Rules. If the information were not collected, the Commission would not be able to resolve common carrier or commercial mobile data service provider related complaint proceedings. An agency may not conduct or sponsor and a person is not required to respond to a collection of information unless it displays a currently valid control number.

Federal Communications Commission.
Marlene H. Dortch,
Secretary.

[FR Doc. 2011-26398 Filed 10-12-11; 8:45 am]

BILLING CODE 6712-01-P